DEPARTMENT OF DEFENSE

Office of the Secretary

[Docket ID DoD-2012-OS-0114]

Privacy Act of 1974; System of Records

AGENCY: Defense Intelligence Agency, DoD.

ACTION: Notice to Add a System of Records.

SUMMARY: The Defense Intelligence Agency is proposing the add a system to its existing inventory of records systems subject to the Privacy Act of 1974 (5 U.S.C. 552a), as amended.

DATES: This proposed action will be effective on October 18, 2012 unless comments are received which result in a contrary determination. Comments will be accepted on or before October 17, 2012.

ADDRESSES: You may submit comments, identified by docket number and title, by any of the following methods:

• Federal Rulemaking Portal: http://www.regulations.gov.

Follow the instructions for submitting comments.

• Mail: Federal Docket Management System Office, 4800 Mark Center Drive; East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Theresa Lowery at Defense Intelligence Agency, DAN 1-C, 600 MacDill Blvd., Washington, DC 20340-0001 or by phone at (202) 231-1193.

SUPPLEMENTARY INFORMATION: The Defense Intelligence Agency system of records notices subject to the Privacy Act of 1974 (5 U.S.C. 552a), as amended, have been published in the Federal Register and are available from the address in FOR FURTHER INFORMATION CONTACT. The proposed system report, as required by 5 U.S.C. 552a of the Privacy Act of 1974, as amended, was submitted on April 26, 2012, to the House Committee on Oversight and Government Reform, the Senate Committee on Governmental Affairs, and the Office of Management and Budget (OMB) pursuant to paragraph 4c of Appendix I to OMB Circular No. A-130, “Federal Agency Responsibilities for Maintaining Records About Individuals, “dated February 8, 1996 (February 20, 1996, 61 FR 6427).

Dated: September 11, 2012.
Aaron Siegel,
Alternate OSD Federal Register Liaison Officer, Department of Defense.

LDIA 12-0002

System Name:

Privacy and Civil Liberties Case Management Records.

System Location:

Defense Intelligence Agency, 200 MacDill Blvd., Washington DC 20340-0001.

Categories of Individuals Covered by the System:

Civilian employees, contractors and military assignees who are the subject of an inquiry based on improper handling, release or transmission of Personally Identifiable Information, who report a breach of PII and who request guidance on the collection of PII. Civilian employees, contractor, military assignees, and members of the public who submit allegations of civil liberties violations by the Defense Intelligence Agency.

Categories of Records in the System:

Name, Social Security Number (SSN), work and home telephone number, address, military service, and case number. Copies of documents containing PII generated due to transmission, inquiry, or allegation. Complaints, comments, notes, memoranda, and correspondence relating to inquires, or allegations.

Authority for Maintenance of the System:

Public Law 458, Intelligence Reform and Terrorism Protection Act of 2004; Public Law 110-53, Implementing Recommendations of the 911 Commission Act of 2007; E.O. 12333-2008, Governing the Conduct of United States Activities; 5 U.S.C. 552a, Privacy Act of 1974 as amended, DoD 5400.11-R, Department of Defense Privacy Program; DIA 5400.001, Defense Intelligence Agency Privacy and Civil Liberties Program and E.O. 9397 (SSN), as amended.

Purpose(s):

To receive, log and track the processing of Privacy Act violations, inquiries, and allegations of violations of civil liberties.

Routine uses of records maintained in the system, including categories of users and the purposes of such uses:

In addition to those disclosures generally permitted under 5 U.S.C. 552a(b) of the Privacy Act of 1974, as amended, these records contained therein may specifically be disclosed outside the DoD as a routine use pursuant to 5 U.S.C. 552a(b)(3) as follows:

The DoD “Blanket Routine Uses” set forth at the beginning of the Defense Intelligence Agency's compilation of systems records notices apply to this system.

Policies and Practices for Storing, Retrieving, Accessing, Retaining, and Disposing of Records in the System:

Storage:

Paper records and Electronic Storage Media.

Retrievability:

By last name.

Safeguards:

Records are stored in office buildings protected by guards, controlled screenings, use of visitor registers, electronic access, and/or locks. Access to records is limited to individuals who are properly screened and cleared on a need-to-know basis in the performance of their duties. Passwords and User IDs are used to control access to the system data, and procedures are in place to deter and detect browsing and unauthorized access. Physical and electronic access are limited to persons responsible for servicing and authorized to use the system.

Retention and Disposal:

Documents containing PII generated due to transmission or inquiry; follow the disposition instructions approved for the official file copy or destroy 6 years after the erroneous release. Documents that do not contain PII generated due to transmission or inquiry; TEMPORARY; destroy 5 years after the erroneous release. Privacy Act Control Files and Civil Liberties Control Files maintained for purposes in responding to requests, TEMPORARY; destroy 5 years after final action by the agency or final adjudication by courts, whichever is later. Paper Files are shredded or burned, electronic files are deleted from the database.

System Manager(s) and Address:

Privacy Act Compliance Officer, Defense Intelligence Agency, 200 MacDill Blvd. Washington DC 20340-5100.

Notification Procedure:

Individuals seeking to determine whether information about themselves is contained in this system of records should address written inquiries to the DIA Freedom of Information Act Office (DAN-1A), Defense Intelligence Agency, 200 MacDill Blvd., Washington DC 20340-5100.

Request should contain the individual's full name, current address and telephone number.

Record Access Procedures:

Individuals seeking access to information about themselves, contained in this system of records, should address written inquiries to the DIA Freedom of Information Act Office, Defense Intelligence Agency (DAN-1A), 200 MacDill Blvd., Washington DC 20340-5100.

Request should contain the individual's full name, current address, and telephone number.

Contesting Record Procedures:

DIA's rules for accessing records, for contesting contents and appealing initial agency determinations are published in DIA Instruction 5400.001 “Defense Intelligence Agency Privacy Program”; or may be obtained from the system manager.

Record Source Categories:

Individuals, Privacy Compliance Staff Members, and other agency officials.

Exemptions Claimed for the System:

Investigatory material compiled for law enforcement purposes, other than material within the scope of subsection 5 U.S.C 552a(j)(2), may be exempt pursuant to 5 U.S.C 552(k)(2). However, if an individual is denied any right, privilege, or benefit for which he would otherwise be entitled by Federal law or which he would otherwise be eligible, as a result of maintenance of the information, the individual will be provided access to the information except to the extent that disclosure would reveal the identity of a confidential source. Note: When claimed, this exemption allows limited protection of investigative reports maintained in a system of records used in personnel or administrative actions.

Investigatory material complied solely for determining suitability, eligibility, or qualifications for Federal civilian employment, military service, Federal contracts, or access to classified information may be exempt pursuant to 5 U.S.C. 552a(k)(5), but only to the extent, such material would reveal the identity of a confidential source.

An exemption rule for this system has been promulgated in accordance with the requirements of 5 U.S.C. 553(b)(1), (2) and (3) c) and (e) and it published at 32 CFR part 319.

[FR Doc. 2012-22765 Filed 9-14-12; 8:45 am]

BILLING CODE 5001-06-P